DEPARTMENT OF ENERGY

[OE Docket No. EA-200-B]

Application To Export Electric Energy; American Electric Power Service Corporation

AGENCY: Office of Electricity Delivery and Energy Reliability, DOE.

ACTION: Notice of Application.

SUMMARY: American Electric Power Service Corporation (AEPSC) has applied, on behalf of its generation-owning public utility affiliates, to renew their authority to transmit electric energy from the United States to Canada pursuant to section 202(e) of the Federal Power Act.

DATES: Comments, protests, or requests to intervene must be submitted on or before May 23, 2006.

ADDRESSES: Comments, protests, or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On April 6, 1999, the Department of Energy (DOE) issued Order No. EA-200 authorizing each of AEPSC's five generation-owning public utility members individually to transmit electric energy from the United States to Canada. Order No. EA-200 authorized Appalachian Power Company (APC), Columbus Southern Power Company (CSPC), Indiana Michigan Power Company (IMPC), Kentucky Power Company (KPC) and Ohio Power Company (OPC) individually to export electric energy from the United States to Canada for a two-year term. On May 22, 2001, in Order No. EA-200-A, DOE renewed that authorization for a five-year term and added Central Power & Light Company, Public Service Company of Oklahoma (PSCO), Southwestern Electric Power Company (SEPC) and West Texas Utilities Company to the list of AEPCS's member companies authorized to export electric energy to Canada.

On April 20, 2006, AEPSC filed an application with DOE on behalf of only seven of its current public utility affiliates (APC, CSPC, IMPC, KPC, OPC, PSCO, and SEPC) for renewal of the export authority contained in Order No. EA-200-A for an additional five-year term. The electric energy that each company proposes to export electric to Canada would be either surplus to its own needs or purchased on the wholesale market. Each company authorized to export would individually arrange for the delivery of those exports over the international transmission facilities presently owned by Basin Electric Power Cooperative, Bonneville Power Administration, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, Vermont Electric Power Company, Inc. and Vermont Electric Transmission Company.

Because the existing authority contained in Order No. EA-200-A is due to expire on May 22, 2006, AEPSC has requested expedited treatment of this amendment application so that there would be no gap in export authority. In response to the AEPSC request, DOE has shortened the comment period to 15 days.

Procedural Matters: Any person desiring to become a party to these proceedings or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with the DOE on or before the dates listed above.

Comments on the AEPSC application to export electric energy to Canada should be clearly marked with Docket EA-200-B. Additional copies are to be filed directly with John C. Crespo, Esq., American Electric Power, 1 Riverside Plaza, Columbus, Ohio 43215-2373 AND John R. Lilyestrom, Esq., Hogan & Hartson, LLP, 555 13th Street, NW., Washington, DC 20004.

A final decision will be made on this application after the environmental impacts have been evaluated pursuant to the National Environmental Policy Act of 1969, and a determination is made by DOE that the proposed action will not adversely impact on the reliability of the U.S. electric power supply system.

Copies of this application will be made available, upon request, for public inspection and copying at the address provided above or you may send an email to Odessa Hopkins at odessa.hopkins@hq.doe.gov.

Issued in Washington, DC, on May 2, 2006.
Anthony J. Como,
Director, Permitting and Siting, Office of Electricity Delivery and Energy Reliability.

[FR Doc. E6-6906 Filed 5-5-06; 8:45 am]

BILLING CODE 6450-01-P